DEPARTMENT OF TRANSPORTATION

Federal Aviation Administration

14 CFR Part 39

[Docket No. FAA-2005-20797; Directorate Identifier 2004-NM-256-AD; Amendment 39-14552; AD 2006-07-25]

RIN 2120-AA64

Airworthiness Directives; McDonnell Douglas Model DC-8-11, DC-8-12, DC-8-21, DC-8-31, DC-8-32, DC-8-33, DC-8-41, DC-8-42, and DC-8-43 Airplanes; Model DC-8F-54 and DC-8F-55 Airplanes; Model DC-8-50, -60, -60F, -70, and -70F Series Airplanes; Model DC-9-10, -20, -30, -40, and -50 Series Airplanes; Model DC-9-81 (MD-81), DC-9-82 (MD-82), DC-9-83 (MD-83), and DC-9-87 (MD-87) Airplanes; and Model MD-88 Airplanes

AGENCY: Federal Aviation Administration (FAA), Department of Transportation (DOT).

ACTION: Final rule.

SUMMARY: The FAA is superseding an existing airworthiness directive (AD), which applies to certain McDonnell Douglas airplanes, as listed above. That AD currently requires an initial general visual or dye penetrant inspection, repetitive dye penetrant inspections, and replacement, as necessary, of the rudder pedal bracket. This new AD also requires, for certain airplanes, replacing the rudder pedal bracket assemblies with new, improved parts, which terminates the repetitive inspections. This AD results from a report of numerous cracked rudder pedal brackets found during inspections of certain affected airplanes. We are issuing this AD to prevent failure of the rudder pedal bracket assembly, which could result in the loss of rudder and braking control at either the captain's or first officer's position.

DATES: This AD becomes effective May 16, 2006.

The Director of the Federal Register approved the incorporation by reference of certain publications listed in the AD as of May 16, 2006.

ADDRESSES: You may examine the AD docket on the Internet at http://dms.dot.gov or in person at the Docket Management Facility, U.S. Department of Transportation, 400 Seventh Street SW., Nassif Building, room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 89-14-02, amendment 39-6245 (54 FR 27156, June 28, 1989). The existing AD applies to certain McDonnell Douglas Model DC-8-11, DC-8-12, DC-8-21, DC-8-31, DC-8-32, DC-8-33, DC-8-41, DC-8-42, and DC-8-43 airplanes; Model DC-8F-54 and DC-8F-55 airplanes; and Model DC-8-50, -60, -60F, -70, and -70F series airplanes (hereafter referred to as DC-8 airplanes). The existing AD also applies to McDonnell Douglas Model DC-9-10, -20, -30, -40, and -50 series airplanes; Model DC-9-81 (MD-81), DC-9-82 (MD-82), DC-9-83 (MD-83), and DC-9-87 (MD-87) airplanes; and Model MD-88 airplanes (hereafter referred to as DC-9/MD-80 airplanes). That NPRM was published in the Federal Register on April 5, 2005 (70 FR 17216). That NPRM proposed to continue to require an initial general visual or dye penetrant inspection, repetitive dye penetrant inspections, and replacement, as necessary, of the rudder pedal bracket. That NPRM also proposed to require, for certain airplanes, replacing the rudder pedal bracket assemblies with new, improved parts, which would terminate the repetitive inspections.

Comments

We provided the public the opportunity to participate in the development of this AD. We have considered the comments that have been received on the NPRM.

Request To Reference Previous Service Bulletins

Boeing requests that we reference Revisions 4, 5, and 6 of McDonnell Douglas DC-9 Alert Service Bulletin A27-307 for accomplishing the actions in this AD. Revisions 4, 5, and 6 of the service bulletin were approved previously as alternative methods of compliance (AMOCs) for paragraphs A and B of AD 89-14-02, which correspond to paragraphs (f) and (g) of this AD. Therefore, we infer the commenter would like us to add references to Revisions 4 and 5 of the service bulletin to paragraph (h) of this AD.

We agree to reference Revision 4, dated June 3, 1991, and Revision 5, dated February 14, 1992, of McDonnell Douglas DC-9 Alert Service Bulletin A27-307 in paragraph (h) of this AD, since the procedures in those revisions are essentially the same as those in Revision 6. As a result, we have not retained paragraph (i) of the NPRM, Credit for Previous Service Bulletins, in this AD.

Request To Revise the Cost of Compliance

Alaska Airlines requests that we increase the estimated cost of parts to $9,882. The commenter states that the captain's rudder pedal bracket assembly (part number (P/N) 5962903-501) costs $4,769, and that the first officer's rudder pedal bracket assembly (P/N 5962904-501) costs $5,113. The commenter also states that these are the current prices quoted by the manufacturer, and that the prices may be considerably higher when an airplane has accumulated 75,000 total flight cycles (the compliance time for the replacements).

We agree. We have confirmed with Boeing that since issuance of McDonnell Douglas DC-9 Alert Service Bulletin A27-307, Revision 6, dated December 19, 1994, the cost of the parts has increased as quoted by the commenter. Therefore, we have revised the Estimated Costs table in this AD accordingly.

Request To Terminate AD 89-14-02

Boeing also requests that we terminate AD 89-14-02 instead of supersede it. Boeing proposes that we revise paragraph (b) of the NPRM to state that first accomplishment of paragraphs (f)(1) and (f)(2) constitutes terminating action for the repetitive inspections of AD 89-14-02. As justification, Boeing asserts that this change will make it easier for operators to track compliance.

We do not agree to revise paragraph (b) of this AD. Since this AD supersedes AD 89-14-02, the requirements of this AD replace the requirements of that existing AD. After the effective date of this AD, operators would be required to show compliance with this AD, not AD 89-14-02. Furthermore, we have carried over the repetitive inspections and compliance times from AD 89-14-02 into this AD because those inspections continue to be required until the terminating action in this AD is accomplished for certain airplanes. To revise this AD as the commenter proposes would necessitate revising the compliance times in paragraphs (f) and (g) of this AD to account for operators who are currently inspecting in accordance with AD 89-14-02. Therefore, no change to this AD is necessary in this regard.

Request To Address Defective Parts Manufacturer Approval (PMA) Parts

The Modification and Repair Parts Association (MARPA) requests we revise the NPRM to cover possible defective PMA alternative parts, rather than just the parts identified in the NPRM, so that those defective PMA parts also are subject to the NPRM. MARPA states that there are existing PMA parts for the rudder pedal brackets. MARPA also states that PMA manufacturers are encouraged—and in some cases, required—to identify PMA parts by alternative designations.

We concur with the MARPA's general request that, if we know that an unsafe condition also exists in PMA parts, the AD should address those parts, as well as the original parts. However, we are not aware of other PMA parts that are equivalent to the defective rudder pedal bracket assemblies. In the event PMA equivalent parts are identified, we will consider further rulemaking.

The MARPA's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, no change has been made to this AD in this regard.

Request To Reference PMA Parts

MARPA also requests that we revise language in the NPRM to permit installation of PMA equivalent parts. MARPA states that the mandated installation of a certain part number “is at variance with FAR 21.303,” which permits the installation of other (PMA) parts.

We infer that the commenter would like this AD to permit installation of any equivalent PMA parts so that it is not necessary for an operator to request approval of an alternative method of compliance (AMOC) in order to install an “equivalent” PMA part. Whether an alternative part is “equivalent” in adequately resolving the unsafe condition can only be determined on a case-by-case basis, based on a complete understanding of the unsafe condition. We are not currently aware of any such parts. Our policy is that, in order for operators to replace a part with one that is not specified in the AD, they must request an AMOC. This is necessary so that we can make a specific determination that an alternative part is or is not susceptible to the same unsafe condition.

In response to the MARPA's statement regarding a “variance with FAR 21.303,” under which the FAA issues PMAs, this statement appears to reflect a misunderstanding of the relationship between ADs and the certification procedural regulations of part 21 of the Federal Aviation Regulations (14 CFR part 21). Those regulations, including section 21.303 of the Federal Aviation Regulations (14 CFR 21.303), are intended to ensure that aeronautical products comply with the applicable airworthiness standards. But ADs are issued when, notwithstanding those procedures, we become aware of unsafe conditions in these products or parts. Therefore, an AD takes precedence over other design approvals when we identify an unsafe condition, and mandating installation of a certain part number in an AD is not at variance with section 21.303.

The AD provides a means of compliance for operators to ensure that the identified unsafe condition is addressed appropriately. For an unsafe condition attributable to a part, the AD normally identifies the replacement parts necessary to obtain that compliance. As stated in section 39.7 of the Federal Aviation Regulations (14 CFR 39.7): “Anyone who operates a product that does not meet the requirements of an applicable airworthiness directive is in violation of this section.” Unless an operator obtains approval for an AMOC, replacing a part with one not specified by the AD would make the operator subject to an enforcement action and result in a civil penalty. No change to this AD is necessary in this regard.

Change To Certain Service Bulletin References

We referenced McDonnell Douglas DC-8 Alert Service Bulletin A27-273 and McDonnell Douglas DC-9 Alert Service Bulletin A27-307, both dated May 16, 1989, as applicable, as the appropriate source of service information for accomplishing the actions required by AD 89-14-02. However, we inadvertently omitted the revision level of those service bulletins in AD 89-14-02. We have corrected those references in paragraph (f) and Note 2 of this AD.

Clarification of AMOC Paragraph

We have revised this action to clarify the appropriate procedure for notifying the principal inspector before using any approved AMOC on any airplane to which the AMOC applies.

Conclusion

We have carefully reviewed the available data, including the comments that have been received, and determined that air safety and the public interest require adopting the AD with the changes described previously. We have determined that these changes will neither increase significantly the burden on any operator nor increase the scope of the AD.

Costs of Compliance

There are about 2,025 airplanes of the affected design in the worldwide fleet. This AD affects about 1,381 airplanes of U.S. registry; about 250 of those airplanes are Model DC-8 airplanes and about 1,131 are Model DC-9/MD-80 airplanes. The new replacements of this AD are applicable only to Model DC-9/MD-80 airplanes. The following table provides the estimated costs for U.S. operators to comply with this AD.

Estimated Costs
Action | Work hours | Average labor rate per hour | Parts | Cost per airplane | Number of U.S.-registered airplanes | Fleet cost
General visual inspection (required by AD 89-14-02) | 3 | $65 | None | $195 | 1,381 | $269,295
Dye penetrant inspection (required by AD 89-14-02) | 5 | 65 | None | $325, per inspection cycle | 1,381 | $448,825, per inspection cycle
Replacements (new action) | 9 | 65 | $9,882 | $10,467 | 1,131 | $11,838,177

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-6245 (54 FR 27156, June 28, 1989) and by adding the following new airworthiness directive (AD):

2006-07-25 McDonnell Douglas: Amendment 39-14552. Docket No. FAA-2005-20797; Directorate Identifier 2004-NM-256-AD.

Effective Date

(a) This AD becomes effective May 16, 2006.

Affected ADs

(b) This AD supersedes AD 89-14-02.

Applicability

(c) This AD applies to the airplanes listed in Table 1 of this AD, certificated in any category.

Table 1.—Applicability
McDonnell Douglas | As identified in-
Model DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes | McDonnell Douglas DC-8 Alert Service Bulletin A27-273, dated May 16, 1989.
Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; DC-9-81 (MD-81), DC-9-82 (MD-82), DC-9-83 (MD-83), and DC-9-87 (MD-87) airplanes; and Model MD-88 airplanes | McDonnell Douglas DC-9 Alert Service Bulletin Model A27-307, Revision 6, dated December 19, 1994.

Unsafe Condition

(d) This AD was prompted by a report of numerous cracked rudder pedal brackets found during inspections of certain affected airplanes. We are issuing this AD to prevent failure of the rudder pedal bracket assembly, which could result in the loss of rudder and braking control at either the captain's or first officer's position.

Compliance

(e) You are responsible for having the actions required by this AD performed within the compliance times specified, unless the actions have already been done.

Requirements of AD 89-14-02

(f) Prior to the accumulation of 40,000 total landings or within 30 days after July 5, 1989 (the effective date of AD 89-14-02), whichever occurs later, perform either a general visual inspection or dye penetrant inspection for cracks of the captain's and first officer's rudder pedal bracket, part numbers (P/N) 5616067 and 5616068, respectively, in accordance with McDonnell Douglas DC-8 Alert Service Bulletin A27-273 (for Model DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes), or McDonnell Douglas DC-9 Alert Service Bulletin A27-307 (for Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; Model DC-9-81 (MD-81), DC-9-82 (MD-82), DC-9-83 (MD-83), and DC-9-87 (MD-87) airplanes; and Model MD-88 airplanes), both Revision 1, both dated May 16, 1989, as applicable.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: McDonnell Douglas DC-8 Alert Service Bulletin A27-273 and McDonnell Douglas DC-9 Alert Service Bulletin A27-307, both Revision 1, both dated May 16, 1989, are hereinafter referred to as ASB A27-273 and ASB A27-307, respectively.

(1) If an initial general visual inspection is accomplished, and no cracks are found, perform a dye penetrant inspection of the rudder pedal bracket assembly within 180 days after the general visual inspection, and thereafter accomplish dye penetrant inspections at intervals not to exceed 12 months or 2,500 landings, whichever occurs earlier.

(2) If an initial dye penetrant inspection is accomplished, and no cracks are found, accomplish repetitive dye penetrant inspections at intervals not to exceed 12 months or 2,500 landings, whichever occurs earlier.

(g) If cracks are detected, prior to further flight, remove and replace the rudder pedal bracket assembly in accordance with ASB A27-273 or A27-307, as applicable. Prior to the accumulation of 40,000 total landings after replacement with the new part, resume the repetitive inspections in accordance with paragraph (f) in this AD.

New Requirements of This AD

Terminating Action for Certain Airplanes

(h) For McDonnell Douglas Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; Model DC-9-81 (MD-81), DC-9-82 (MD-82), DC-9-83 (MD-83), DC-9-87 (MD-87) airplanes; and Model MD-88 airplanes: Do the actions in paragraphs (h)(1) and (h)(2) of this AD in accordance with the Accomplishment Instructions of McDonnell Douglas DC-9 Alert Service Bulletin A27-307, Revision 4, dated June 3, 1991; Revision 5, dated February 14, 1992; or Revision 6, dated December 19, 1994.

(1) Before the accumulation of 75,000 total landings on the captain's rudder pedal bracket assembly, P/N 5616067-501, or within 60 months after the effective date of this AD, whichever occurs later: Remove the rudder pedal bracket assembly and replace it with new, improved P/N 5962903-501. Accomplishment of the replacement terminates the repetitive inspections of the captain's rudder pedal bracket assembly required by paragraphs (f) and (g) of this AD.

(2) Before the accumulation of 75,000 total landings on the first officer's rudder pedal bracket assembly, P/N 5616068-501, or within 60 months after the effective date of this AD, whichever occurs later: Remove the rudder pedal bracket assembly and replace it with new, improved P/N 5962904-501. Accomplishment of the replacement terminates the repetitive inspections of the first officer's rudder pedal bracket assembly required by paragraphs (f) and (g) of this AD.

Alternative Methods of Compliance (AMOCs)

(i)(1) The Manager, Los Angeles Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs, approved previously in accordance with AD 89-14-02, amendment 39-6245, are approved as AMOCs for the corresponding requirements of this AD.

Material Incorporated by Reference

(j) You must use the applicable service information identified in Table 2 of this AD to perform the actions that are required by this AD, unless the AD specifies otherwise.

Table 2.—Material Incorporated by Reference
Service bulletin | Revision level | Date
McDonnell Douglas DC-8 Alert Service Bulletin A27-273 | 1 | May 16, 1989.
McDonnell Douglas DC-9 Alert Service Bulletin A27-307 | 1 | May 16, 1989.
McDonnell Douglas DC-9 Alert Service Bulletin A27-307 | 4 | June 3, 1991.
McDonnell Douglas DC-9 Alert Service Bulletin A27-307 | 5 | February 14, 1992.
McDonnell Douglas DC-9 Alert Service Bulletin A27-307 | 6 | December 19, 1994.

McDonnell Douglas Alert Service Bulletin A27-307, Revision 6, dated December 19, 1994, contains the following effective pages:

Page Number | Revision level shown on page | Date shown on page
1-24 | 6 | December 19, 1994.
25-36 | 5 | February 14, 1992.

The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 31, 2006.
Ali Bahrami,
Manager, Transport Airplane Directorate, Aircraft Certification Service.

[FR Doc. 06-3380 Filed 4-10-06; 8:45 am]

BILLING CODE 4910-13-P